DEPARTMENT OF THE TREASURY

Internal Revenue Service

26 CFR Part 1

[REG-115560-99]

RIN 1545-AX66

Equity Options With Flexible Terms; Qualified Covered Call Treatment; Hearing Cancellation

AGENCY: Internal Revenue Service (IRS), Treasury.

ACTION: Cancellation of notice of public hearing on proposed rulemaking.

SUMMARY: This document provides notice of cancellation of a public hearing on proposed regulations providing guidance on the application of the rules governing qualified covered calls, and writing equity call options.

DATES: The public hearing originally scheduled for Wednesday, May 9, 2001, at 10 a.m., is canceled.

FOR FURTHER INFORMATION CONTACT: Guy R. Traynor of the Regulations Unit, Office of Special Counsel, (202) 622-7180 (not a toll-free number).

SUPPLEMENTARY INFORMATION: A notice of proposed rulemaking and notice of public hearing that appeared in the Federal Register on January 18, 2001, (66 FR 4751) announced that a public hearing was scheduled for May 9, 2001, at 10 a.m., in the auditorium of the Internal Revenue Building, 1111 Constitution Avenue NW., Washington, DC. The subject of the public hearing is proposed regulations under section 1092 of the Internal Revenue Code. The public comment period for these proposed regulations expired on April 18, 2001.

The notice of proposed rulemaking and notice of public hearing, instructed those interested in testifying at the public hearing to submit a request to speak and an outline of the topics to be addressed. As of April 20, 2001, no one has requested to speak. Therefore, the public hearing scheduled for May 9, 2001, is canceled.

LaNita VanDyke,
Acting Chief, Regulations Unit, Office of Special Counsel (Modernization & Strategic Planning).

[FR Doc. 01-10549 Filed 4-27-01; 8:45 am]

BILLING CODE 4830-01-P